DEPARTMENT OF ENERGY

Federal Energy Regulatory Commission

[Docket No. RP00-632-005]

Dominion Transmission Inc.; Notice of Compliance Filing

September 26, 2001.

Take notice that on September 21, 2001, Dominion Transmission Inc. (DTI), tendered for filing as part of its FERC Gas Tariff, Third Revised Volume No. 1, the following tariff sheets, with an effective date of November 1, 2001:

Seventh Revised Sheet No. 31

Tenth Revised Sheet No. 32

Fifth Revised Sheet No. 33

Sixth Revised Sheet No. 35

First Revised Sheet No. 606

Second Revised Sheet No. 1000

First Revised Sheet No. 1112

First Revised Sheet No. 1113

First Revised Sheet No. 1114

First Revised Sheet No. 1117

Original Sheet No. 1117A

First Revised Sheet No. 1119

First Revised Sheet No. 1120

Second Revised Sheet No. 1121

Second Revised Sheet No. 1122

First Revised Sheet No. 1123

First Revised Sheet No. 1124

First Revised Sheet No. 1125

First Revised Sheet No. 1126

First Revised Sheet No. 1171

First Revised Sheet No. 1175

Second Revised Sheet No. 1184

DTI states that the purpose of this filing is to comply with the Settlement that DTI filed on June 22, 2001, in the captioned proceeding, which was approved by the Commission's letter order issued September 13, 2001, 96 FERC ¶ 61,288 (2001).

DTI states that copies of this letter of transmittal and enclosures are being served upon DTI's customers and interested state commissions and to the parties to the proceeding.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-24550 Filed 10-1-01; 8:45 am]

BILLING CODE 6717-01-P